Title 3—

The President

Proclamation 8063 of October 4, 2006

Leif Erikson Day, 2006

By the President of the United States of America

A Proclamation

Leif Erikson Day honors a great son of Iceland and grandson of Norway who became one of the first Europeans known to reach North America. This day is also an opportunity to celebrate the generations of Nordic Americans who have contributed to our country and strengthened the ties that forever bind the United States with Denmark, Finland, Iceland, Norway, and Sweden.

Like the crew of risk takers that Leif Erikson boldly led on a quest to find new lands, Americans have always valued the ideals of exploration and discovery. A desire to seek and understand inspired their voyage more than a millennium ago, and it remains a central part of our national character as a new generation pursues great new goals today. Nordic Americans continue to make valuable contributions to our society that have expanded human knowledge and helped make our world a better place.

To honor Leif Erikson and to celebrate our citizens of Nordic-American heritage, the Congress, by joint resolution (Public Law 88-566) approved on September 2, 1964, has authorized the President to proclaim October 9 of each year as “Leif Erikson Day.”

NOW, THEREFORE, I, GEORGE W. BUSH, President of the United States of America, do hereby proclaim October 9, 2006, as Leif Erikson Day. I call upon all Americans to observe this day with appropriate ceremonies, activities, and programs to honor our rich Nordic-American heritage.

IN WITNESS WHEREOF, I have hereunto set my hand this fourth day of October, in the year of our Lord two thousand six, and of the Independence of the United States of America the two hundred and thirty-first.

[FR Doc. 06-8610

Filed 10-6-06; 8:45 am]

Billing code 3195-01-P